DEPARTMENT OF TRANSPORTATION

Federal Aviation Administration

14 CFR Part 97

[Docket No. 31190; Amdt. No. 3797]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 8, 2018. The compliance date for each SIAP, associated Takeoff Minimums, and ODP is specified in the amendatory provisions.

The incorporation by reference of certain publications listed in the regulations is approved by the Director of the Federal Register as of May 8, 2018.

ADDRESSES: Availability of matters incorporated by reference in the amendment is as follows:

For Examination

1. U.S. Department of Transportation, Docket Ops-M30, 1200 New Jersey Avenue SE, West Bldg., Ground Floor, Washington, DC, 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION:

This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore— (1) is not a “significant regulatory action” under Executive Order 12866;(2) is not a “significant rule” under DOT Regulatory Policies and Procedures (44 FR 11034; February 26,1979); and (3)does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC on April 20, 2018.
John S. Duncan,
Director, Flight Standards Service.

Adoption of the Amendment

Accordingly, pursuant to the authority delegated to me,

Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 24 May 2018

Anchorage, AK, Ted Stevens Anchorage Intl, Takeoff Minimums and Obstacle DP, Amdt 7B

Homer, AK, Homer, LOC RWY 4, Amdt 11A

Togiak Village, AK, Togiak, NDB-B, Amdt 1A, CANCELED

Togiak Village, AK, Togiak, NDB/DME-A, Amdt 1A, CANCELED

Togiak Village, AK, Togiak, RNAV (GPS) RWY 3, Amdt 1

Togiak Village, AK, Togiak, RNAV (GPS) RWY 21, Amdt 1

Togiak Village, AK, Togiak, Takeoff Minimums and Obstacle DP, Amdt 2

Little Rock, AR, Bill and Hillary Clinton National/Adams Field, RADAR-1, Amdt 17A, CANCELED

Craig, CO, Craig-Moffat, GPS RWY 7, Orig, CANCELED

Craig, CO, Craig-Moffat, GPS RWY 25, Orig, CANCELED

Craig, CO, Craig-Moffat, RNAV (GPS) RWY 7, Orig

Craig, CO, Craig-Moffat, RNAV (GPS) RWY 25, Orig

Craig, CO, Craig-Moffat, VOR RWY 7, Amdt 3

Craig, CO, Craig-Moffat, VOR RWY 25, Amdt 4

Titusville, FL, Arthur Dunn Air Park, RNAV (GPS) RWY 15, Orig-B, CANCELED

Titusville, FL, Arthur Dunn Air Park, RNAV (GPS) RWY 33, Orig-B, CANCELED

Titusville, FL, Arthur Dunn Air Park, RNAV (GPS)-A, Orig

Titusville, FL, Arthur Dunn Air Park, RNAV (GPS)-B, Orig

Kaunakakai, HI, Molokai, VOR OR TACAN-A, Amdt 17

Cherokee, IA, Cherokee County Rgnl, RNAV (GPS) RWY 18, Orig

Kewanee, IL, Kewanee Muni, RNAV (GPS) RWY 9, Amdt 1B

Coldwater, KS, Comanche County, RNAV (GPS) RWY 17, Orig-A

Coldwater, KS, Comanche County, RNAV (GPS) RWY 35, Orig-A

Monroe, LA, Monroe Rgnl, VOR RWY 4, Amdt 18A, CANCELED

Monroe, LA, Monroe Rgnl, VOR RWY 22, Amdt 5A, CANCELED

Detroit, MI, Coleman A Young Muni, NDB RWY 15, Amdt 23A, CANCELED

Detroit, MI, Coleman A Young Muni, RNAV (GPS) RWY 15, Orig-C

Detroit, MI, Coleman A Young Muni, RNAV (GPS) RWY 33, Orig-D

Detroit, MI, Detroit Metropolitan Wayne County, ILS OR LOC RWY 3R, ILS RWY 3R (SA CAT I), ILS RWY 3R (CAT II), ILS RWY 3R (CAT III), Amdt 18

Detroit, MI, Detroit Metropolitan Wayne County, ILS OR LOC RWY 4R, ILS RWY 4R (SA CAT I), ILS RWY 4R (CAT II), ILS RWY 4R (CAT III), Amdt 19

Detroit, MI, Detroit Metropolitan Wayne County, ILS OR LOC RWY 21L, ILS RWY 21L (SA CAT I), ILS RWY 21L (SA CAT II), Amdt 13

Detroit, MI, Detroit Metropolitan Wayne County, ILS OR LOC RWY 22L, ILS RWY 22L (SA CAT I), Amdt 32

Detroit, MI, Detroit Metropolitan Wayne County, ILS OR LOC RWY 27L, ILS RWY 27L (SA CAT I), ILS RWY 27L (SA CAT II), Amdt 5A

Detroit, MI, Detroit Metropolitan Wayne County, ILS PRM RWY 4R, ILS PRM RWY 4R (SA CAT I), ILS PRM RWY 4R (CAT II), ILS PRM RWY 4R (CAT III) (CLOSE PARALLEL), Amdt 3

Detroit, MI, Detroit Metropolitan Wayne County, ILS PRM RWY 22L (CLOSE PARALLEL), Amdt 2

Detroit, MI, Detroit Metropolitan Wayne County, ILS PRM Y RWY 4L (CLOSE PARALLEL),

Amdt 1A

Detroit, MI, Detroit Metropolitan Wayne County, ILS PRM Z RWY 4L, ILS PRM Z RWY 4L (CAT II), ILS PRM Z RWY 4L (CAT III), (CLOSE PARALLEL), Orig

Detroit, MI, Detroit Metropolitan Wayne County, ILS PRM Z RWY 22R, ILS PRM Z RWY 22R (SA CAT I), ILS PRM Z RWY 22R (SA CAT II), (CLOSE PARALLEL), Orig

Detroit, MI, Detroit Metropolitan Wayne County, ILS Y RWY 4L, Amdt 1A

Detroit, MI, Detroit Metropolitan Wayne County, ILS Z OR LOC RWY 4L, ILS Z RWY 4L (CAT II), ILS Z RWY 4L (CAT III), Amdt 4A

Detroit, MI, Detroit Metropolitan Wayne County, RNAV (GPS) RWY 27L, Amdt 3A

Detroit, MI, Detroit Metropolitan Wayne County, RNAV (GPS) RWY 27R, Amdt 3A

Detroit, MI, Detroit Metropolitan Wayne County, RNAV (GPS) PRM Z RWY 4R, (CLOSE PARALLEL), Amdt 1

Detroit, MI, Detroit Metropolitan Wayne County, RNAV (GPS) PRM Z RWY 22L, (CLOSE PARALLEL), Amdt 1

Detroit, MI, Detroit Metropolitan Wayne County, RNAV (GPS) Z RWY 3R, Amdt 4

Detroit, MI, Detroit Metropolitan Wayne County, RNAV (GPS) Z RWY 4R, Amdt 4

Detroit, MI, Detroit Metropolitan Wayne County, RNAV (GPS) Z RWY 21L, Amdt 4

Detroit, MI, Detroit Metropolitan Wayne County, RNAV (GPS) Z RWY 22L, Amdt 3

Detroit, MI, Detroit Metropolitan Wayne County, RNAV (RNP) U RWY 4L, Orig

Detroit, MI, Detroit Metropolitan Wayne County, RNAV (RNP) U RWY 22R, Orig

Detroit, MI, Detroit Metropolitan Wayne County, RNAV (RNP) W RWY 3R, Orig

Detroit, MI, Detroit Metropolitan Wayne County, RNAV (RNP) W RWY 21L, Orig

Detroit, MI, Detroit Metropolitan Wayne County, RNAV (RNP) W RWY 22R, Orig

Detroit, MI, Detroit Metropolitan Wayne County, RNAV (RNP) X RWY 3R, Orig

Detroit, MI, Detroit Metropolitan Wayne County, RNAV (RNP) X RWY 4L, Orig

Detroit, MI, Detroit Metropolitan Wayne County, RNAV (RNP) X RWY 4R, Orig

Detroit, MI, Detroit Metropolitan Wayne County, RNAV (RNP) X RWY 21L, Orig

Detroit, MI, Detroit Metropolitan Wayne County, RNAV (RNP) X RWY 22L, Orig

Detroit, MI, Detroit Metropolitan Wayne County, RNAV (RNP) X RWY 22R, Orig

Detroit/Grosse Ile, MI, Grosse Ile Muni, RNAV (GPS) RWY 4, Orig-A

Detroit/Grosse Ile, MI, Grosse Ile Muni, RNAV (GPS) RWY 22, Amdt 1A

Flint, MI, Bishop Intl, ILS OR LOC RWY 9, Amdt 23

Flint, MI, Bishop Intl, ILS OR LOC RWY 27, Amdt 6

Flint, MI, Bishop Intl, RNAV (GPS) RWY 9, Amdt 1B

Flint, MI, Bishop Intl, RNAV (GPS) RWY 27, Amdt 1A

Flint, MI, Bishop Intl, RNAV (GPS) RWY 36, Amdt 1A

Flint, MI, Bishop Intl, VOR RWY 18, Orig-B

Flint, MI, Bishop Intl, VOR RWY 36, Orig-A

Greenville, MI, Greenville Muni, RNAV (GPS) RWY 10, Amdt 1

Greenville, MI, Greenville Muni, RNAV (GPS) RWY 28, Amdt 1

Greenville, MI, Greenville Muni, VOR-A, Amdt 3

Muskegon, MI, Muskegon County, ILS OR LOC RWY 24, Amdt 6

Muskegon, MI, Muskegon County, ILS OR LOC RWY 32, Amdt 20

Muskegon, MI, Muskegon County, LOC BC RWY 14, Amdt 9B, CANCELED

Muskegon, MI, Muskegon County, RNAV (GPS) RWY 6, Amdt 2

Muskegon, MI, Muskegon County, RNAV (GPS) RWY 14, Amdt 1B

Muskegon, MI, Muskegon County, RNAV (GPS) RWY 24, Amdt 2

Muskegon, MI, Muskegon County, RNAV (GPS) RWY 32, Amdt 2C

Saginaw, MI, MBS Intl, RNAV (GPS) RWY 14, Amdt 2A

Saginaw, MI, MBS Intl, RNAV (GPS) RWY 32, Amdt 2A

Preston, MN, Fillmore County, RNAV (GPS) RWY 29, Amdt 1C

Aberdeen/Amory, MS, Monroe County, RNAV (GPS) RWY 18, Amdt 2

Aberdeen/Amory, MS, Monroe County, RNAV (GPS) RWY 36, Amdt 2

Aberdeen/Amory, MS, Monroe County, VOR RWY 18, Amdt 7A

Mc Comb, MS, Mc Comb/Pike County/John E Lewis Field, ILS OR LOC RWY 16, Amdt 1A

Mc Comb, MS, Mc Comb/Pike County/John E Lewis Field, RNAV (GPS) RWY 16, Amdt 2

Mc Comb, MS, Mc Comb/Pike County/John E Lewis Field, RNAV (GPS) RWY 34, Amdt 1

Mc Comb, MS, Mc Comb/Pike County/John E Lewis Field, Takeoff Minimums and Obstacle DP, Amdt 1

Elizabeth City, NC, Elizabeth City CG Air Station/Rgnl, ILS OR LOC RWY 10, Amdt 1C

Elizabeth City, NC, Elizabeth City CG Air Station/Rgnl, RNAV (GPS) RWY 1, Orig-D

Elizabeth City, NC, Elizabeth City CG Air Station/Rgnl, RNAV (GPS) RWY 10, Amdt 1C

Elizabeth City, NC, Elizabeth City CG Air Station/Rgnl, RNAV (GPS) RWY 19, Orig-C

Elizabeth City, NC, Elizabeth City CG Air Station/Rgnl, RNAV (GPS) RWY 28, Orig-B

Elizabeth City, NC, Elizabeth City CG Air Station/Rgnl, Takeoff Minimums and Obstacle DP,

Amdt 1A

Oxford, NC, Henderson-Oxford, LOC RWY 6, Amdt 2A

Oxford, NC, Henderson-Oxford, NDB RWY 6, Amdt 3A

Raleigh/Durham, NC, Raleigh-Durham Intl, ILS OR LOC RWY 5L, Amdt 5B

Raleigh/Durham, NC, Raleigh-Durham Intl, ILS OR LOC RWY 23R, ILS RWY 23R (CAT II), ILS RWY 23R (CAT III), Amdt 11C

Raleigh/Durham, NC, Raleigh-Durham Intl, RNAV (GPS) RWY 32, Orig-A

Raleigh/Durham, NC, Raleigh-Durham Intl, RNAV (GPS) Y RWY 5L, Amdt 1B

Raleigh/Durham, NC, Raleigh-Durham Intl, RNAV (GPS) Y RWY 23R, Amdt 1C

Raleigh/Durham, NC, Raleigh-Durham Intl, RNAV (RNP) Z RWY 5L, Amdt 2B

Raleigh/Durham, NC, Raleigh-Durham Intl, RNAV (RNP) Z RWY 5R, Amdt 2B

Raleigh/Durham, NC, Raleigh-Durham Intl, RNAV (RNP) Z RWY 23L, Amdt 2B

Raleigh/Durham, NC, Raleigh-Durham Intl, RNAV (RNP) Z RWY 23R, Amdt 2B

Raleigh/Durham, NC, Raleigh-Durham Intl, VOR RWY 5R, Amdt 13E

Raleigh/Durham, NC, Raleigh-Durham Intl, VOR RWY 23L, Amdt 14F

Raleigh/Durham, NC, Raleigh-Durham Intl, VOR RWY 32, Amdt 3E

Salisbury, NC, Mid-Carolina Rgnl, RNAV (GPS) RWY 2, Amdt 2

Gothenburg, NE, Gothenburg Muni, RNAV (GPS) RWY 3, Orig-C

Gothenburg, NE, Gothenburg Muni, RNAV (GPS) RWY 21, Orig-C

Gothenburg, NE, Gothenburg Muni, VOR-A, Amdt 3B

Saranac Lake, NY, Adirondack Rgnl, ILS OR LOC RWY 23, Amdt 10

Saranac Lake, NY, Adirondack Rgnl, LOC Y RWY 23, Orig-B, CANCELED

Saranac Lake, NY, Adirondack Rgnl, RNAV (GPS) RWY 5, Amdt 1C

Saranac Lake, NY, Adirondack Rgnl, RNAV (GPS) RWY 9, Amdt 1

Saranac Lake, NY, Adirondack Rgnl, RNAV (GPS) RWY 23, Orig-D

Saranac Lake, NY, Adirondack Rgnl, VOR RWY 9, Amdt 2B, CANCELED

Saranac Lake, NY, Adirondack Rgnl, VOR/DME RWY 5, Amdt 4B, CANCELED

Akron, OH, Akron Fulton Intl, LOC RWY 25, Amdt 14

Akron, OH, Akron Fulton Intl, NDB RWY 25, Amdt 15

Cleveland, OH, Burke Lakefront, ILS OR LOC RWY 24R, Amdt 1B

Cleveland, OH, Burke Lakefront, RNAV (GPS) RWY 24R, Orig-B

Cleveland, OH, Cleveland-Hopkins Intl, ILS OR LOC RWY 6L, ILS RWY 6L (CAT II), ILS RWY 6L (CAT III), Amdt 3

Cleveland, OH, Cleveland-Hopkins Intl, ILS OR LOC RWY 6R, ILS RWY 6R (SA CAT II), Amdt 22

Cleveland, OH, Cleveland-Hopkins Intl, ILS OR LOC RWY 24L, ILS RWY 24L (SA CAT II), Amdt 23

Cleveland, OH, Cleveland-Hopkins Intl, ILS OR LOC RWY 24R, ILS RWY 24R (SA CAT I), ILS RWY 24R (CAT II), ILS RWY 24R (CAT III), Amdt 6

Cleveland, OH, Cleveland-Hopkins Intl, ILS OR LOC RWY 28, Amdt 25

Cleveland, OH, Cleveland-Hopkins Intl, RNAV (GPS) RWY 10, Amdt 3C

Cleveland, OH, Cleveland-Hopkins Intl, RNAV (GPS) RWY 28, Amdt 3

Cleveland, OH, Cleveland-Hopkins Intl, RNAV (GPS) Y RWY 6L, Amdt 2

Cleveland, OH, Cleveland-Hopkins Intl, RNAV (GPS) Y RWY 6R, Amdt 3

Cleveland, OH, Cleveland-Hopkins Intl, RNAV (GPS) Y RWY 24L, Amdt 4

Cleveland, OH, Cleveland-Hopkins Intl, RNAV (GPS) Y RWY 24R, Amdt 4

Cleveland, OH, Cleveland-Hopkins Intl, RNAV (RNP) Z RWY 6L, Orig

Cleveland, OH, Cleveland-Hopkins Intl, RNAV (RNP) Z RWY 6R, Orig

Cleveland, OH, Cleveland-Hopkins Intl, RNAV (RNP) Z RWY 24L, Orig

Cleveland, OH, Cleveland-Hopkins Intl, RNAV (RNP) Z RWY 24R, Orig

Cleveland, OH, Cuyahoga County, ILS OR LOC RWY 24, Amdt 15B

Cleveland, OH, Cuyahoga County, RNAV (GPS) RWY 24, Amdt 1B

Toledo, OH, Toledo Express, ILS OR LOC RWY 7, Amdt 28A

Toledo, OH, Toledo Express, ILS OR LOC RWY 25, Amdt 8A

Toledo, OH, Toledo Express, RNAV (GPS) RWY 16, Orig-A

Toledo, OH, Toledo Express, RNAV (GPS) RWY 34, Orig-B

Toledo, OH, Toledo Express, VOR RWY 34, Amdt 7C

Waynesburg, PA, Greene County, COPTER RNAV (GPS) RWY 9, Orig

Chamberlain, SD, Chamberlain Muni, RNAV (GPS) RWY 13, Amdt 1

Chamberlain, SD, Chamberlain Muni, RNAV (GPS) RWY 31, Amdt 1

Beaumont, TX, Beaumont Muni, RNAV (GPS) RWY 13, Amdt 1

Beaumont, TX, Beaumont Muni, RNAV (GPS) RWY 31, Amdt 1

Beeville, TX, Beeville Muni, RNAV (GPS) RWY 12, Amdt 1

Beeville, TX, Beeville Muni, RNAV (GPS) RWY 30, Amdt 1

Big Lake, TX, Reagan County, Takeoff Minimums and Obstacle DP, Amdt 2

Fort Hood/Killeen, TX, Robert Gray AAF, ILS OR LOC RWY 15, Amdt 7

Fort Hood/Killeen, TX, Robert Gray AAF, ILS OR LOC RWY 33, Amdt 1C

Fort Hood/Killeen, TX, Robert Gray AAF, NDB RWY 15, Amdt 6A, CANCELED

Fort Hood/Killeen, TX, Robert Gray AAF, RADAR-1, Orig-A

Fort Hood/Killeen, TX, Robert Gray AAF, RADAR-2, Orig-A

Fort Hood/Killeen, TX, Robert Gray AAF, RNAV (GPS) RWY 15, Amdt 2

Fort Hood/Killeen, TX, Robert Gray AAF, RNAV (GPS) RWY 33, Amdt 1C

Salt Lake City, UT, Salt Lake City Intl, ILS OR LOC RWY 34R, ILS RWY 34R SA CAT I, ILS RWY 34R CAT II, ILS RWY 34R CAT III, Amdt 4C

Emporia, VA, Emporia-Greensville Rgnl, LOC RWY 34, Amdt 2

Elkins, WV, Elkins-Randolph Co-Jennings Randolph Fld, LDA-C, Amdt 8

Elkins, WV, Elkins-Randolph Co-Jennings Randolph Fld, RNAV (GPS) RWY 5, Orig-A

Elkins, WV, Elkins-Randolph Co-Jennings Randolph Fld, RNAV (GPS) RWY 14, Orig, CANCELED

Elkins, WV, Elkins-Randolph Co-Jennings Randolph Fld, RNAV (GPS) RWY 23, Orig-A

Elkins, WV, Elkins-Randolph Co-Jennings Randolph Fld, RNAV (GPS)-A, Orig-A

Cheyenne, WY, Cheyenne Rgnl/Jerry Olson Field, ILS OR LOC RWY 27, Amdt 36

Cheyenne, WY, Cheyenne Rgnl/Jerry Olson Field, RNAV (GPS) RWY 13, Amdt 2

Cheyenne, WY, Cheyenne Rgnl/Jerry Olson Field, RNAV (GPS) RWY 27, Amdt 1

Cheyenne, WY, Cheyenne Rgnl/Jerry Olson Field, RNAV (GPS) RWY 31, Amdt 2

RESCINDED: On April 9, 2018 (83 FR 15052), the FAA published an Amendment in Docket No. 31186, Amdt No. 3793, to Part 97 of the Federal Aviation Regulations under section 97.23. The following entry for Olympia, WA, effective May 24, 2018, is hereby rescinded in its entirety:

Olympia, WA, Olympia Rgnl, VOR-A, Amdt 2

[FR Doc. 2018-09566 Filed 5-7-18; 8:45 am]

BILLING CODE 4910-13-P